FEDERAL COMMUNICATIONS COMMISSION

Notice of Public Information Collection(s) Being Submitted to OMB for Review and Approval

July 12, 2005.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 19, 2005. If you anticipate that you will be submitting comments, but find it difficult to do so within the period of time allowed by this notice, you should advise the contact listed below as soon as possible.

ADDRESSES: Direct all comments to Cathy Williams, Federal Communications Commission, Room 1-C823, 445 12th Street, SW., Washington, DC 20554 or via the Internet to Cathy.Williams@fcc.gov or Kristy L. LaLonde, Office of Management and Budget (OMB), Room 10236 NEOB, Washington, DC 20503, (202) 395-3087 or via the Internet at Kristy_L._LaLonde@omb.eop.gov.

FOR FURTHER INFORMATION CONTACT: For additional information concerning this information collection(s) contact Cathy Williams at (202) 418-2918 or via the Internet at Cathy.Williams@fcc.gov. If you would like to obtain or view a copy of this new information collection, you may do so by visiting the FCC PRA Web page at: http://www.fcc.gov/omd/pra.

SUPPLEMENTARY INFORMATION: OMB Control Number: 3060-XXXX.

Title: Section 74.786, Digital Channel Assignments; Section 74.787, Digital Licensing; Section 74.790, Permissible Service of Digital TV Translator and Low Power TV (LPTV) Stations; Section 74.794, Digital Emissions, and Section 74.796, Modification of Digital Transmission Systems and Analog Transmission Systems for Digital Operation.

Form Number: Not applicable.

Type of Review: New collection.

Respondents: Business or other for-profit entities; Not-for-profit institutions; State, local or tribal government.

Number of Respondents: 8,433.

Estimated Time per Response: 30 minutes—4 hours.

Frequency of Response: Recordkeeping requirement; One-time reporting requirement; Third party disclosure requirement.

Total Annual Burden: 55,417 hours.

Total Annual Cost: $95,734,200.

Privacy Impact Assessment: No impact(s).

Needs and Uses: The Commission adopted rules in a Report and Order (R&O) in MB Docket No. 03-185, FCC 04-220, adopted September 9, 2004, and released September 30, 2004. This document established rules and policies for digital low power television (LPTV) and television translator (TV Translator) stations and modifies certain rules applicable to digital Class A TV stations (Class A). The Commission also imposes Paperwork Reduction Act (PRA) burdens aimed at minimizing the opportunity for interference and continuing to offer the public the highest quality viewing services possible during the transition to digital television.

Section 74.786 requires an applicant for a new low power television translator digital station or for changes in the facilities of an authorized digital station shall endeavor to select a channel on which its operation is not likely to cause interference. The applications must be specific with regard to the channel requested. Only one channel will be assigned to each station. Stations proposed use of such channels shall notify all potentially affected 700 MHz wireless licensees not later than 30 days prior to the submission of their application.

Section 74.787 provides that mutually exclusive LPTV, TV translator, mutually exclusive, and mutually exclusive displacement relief applicants applying for construction permits for digital stations will be afforded that opportunity to submit in writing to the Commission, settlements and engineering solutions to resolve their situation.

Section 74.790 states that digital LPTV stations and TV translator station shall not retransmit the programs and signal of any TV broadcast or DVT broadcast station(s) without prior written consent of such stations(s).

Section 74.794 requires licensees of digital LPTV and translator stations to retain with their station license a description of the low pass filter or equivalent device with the manufacture's rating or a report of measurements by a qualified individual.

Section 74.796 digital LPTV or TV translator station licensees to notify the Commission upon the completion of the transmitter modifications and shall certify compliance with all applicable transmission system requirements and results of performance tests.

Federal Communications Commission.
Marlene H. Dortch,
Secretary.

[FR Doc. 05-14177 Filed 7-19-05; 8:45 am]

BILLING CODE 6712-01-P